DEPARTMENT OF COMMERCE

National Oceanic and Atmospheric Administration

[I.D. 020303H]

Proposed Information Collection; Comment Request; Estuary Restoration Act Database

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 8, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Becky Allee, NMFS Restoration Center, 1315 East-West Highway, F/HC3, Silver Spring, MD 20910 (or via Internet at becky.allee@noaa.gov).

SUPPLEMENTARY INFORMATION:

I. Abstract

Collection of estuary habitat restoration project information (e.g., location, habitat type, goals, status, monitoring information) will be undertaken in order to populate a restoration project database mandated by the Estuary Restoration Act (ERA) of 2000. The Estuary Restoration Act Database is to contain information for estuary habitat restoration projects funded through the ERA as well as non-ERA project data that meet quality control requirements and data standards established under the Act. The database is intended to provide information to improve restoration methods, provide the basis for required reports to Congress, and track estuary habitat acreage restored. It will be accessible to the public via Internet for data queries and project reports. Recipients of ERA funds will be required to submit specific information on habitat restoration projects into the ERA Database through an interactive Web site available over the Internet. Projects that are not funded through the ERA can be voluntarily entered into the database by project managers. Other federal agency and private grant programs may also require recipients to enter project information in the ERA database.

II. Method of Collection

Project managers will electronically submit estuary restoration project information via NOAA's Estuary Restoration Act Database Web site. The Web site will contain a user-friendly data entry interface for project managers to enter and submit project information to the ERA database. The data entry interface will consist of a series of screens, containing several pull-down menus and text boxes, where users can enter specific project information (e.g. location, acreage restored, contacts, monitoring information). To facilitate the collection of information through the data entry interface, NOAA Fisheries will provide worksheets containing database fields that can be downloaded and printed from the Web site. These worksheets can be used by project managers to guide information collection, and can then serve as a reference as project managers enter project information over the Web site. The reporting forms will also be available in paper format to be sent to project managers as necessary.

The collection of estuary habitat restoration project information will be undertaken in a multi-phased approach. Project information will first be obtained from existing federal databases, and later from other existing state and regional databases. For projects funded through the Estuary Restoration Act, project managers will be required to enter project information into the database as part of their funding agreement. Submission of project information to the ERA Database may also be required by other public and private restoration financial assistance programs. For other projects implemented by not-for-profit institutions (primary), state, local, tribal governments, businesses and other for-profit organizations, project information can be entered into the database on a voluntary basis. Since database information will be provided by a wide range of respondents, data will be reviewed using a detailed quality assurance/quality control (QA/QC) program prior to being made available to the public. This QA/QC process will also ensure compliance with the Data Quality Act (Section 515). Projects entered into the ERA Database can be updated as new information is obtained but must be updated at least annually for use in database queries and reports.

III. Data

OMB Number: None.

Form Number: None.

Type of Review: Regular submission.

Affected Public: Not-for-profit institutions; state, local, and tribal governments; the Federal government; and business or other for-profit organizations (limited to organizations in the above categories engaging in estuary habitat restoration).

Estimated Number of Respondents: 1,000.

Estimated Time Per Response: One hour per report. This is assuming that most information needed for the database has already been obtained or is known. Projects in the database must be updated at least annually. Information originally collected and submitted for a project does not need to be collected again to update the project.

Estimated Total Annual Burden Hours: 1,000.

Estimated Total Annual Cost to Public: None.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 31, 2003.
Gwellnar Banks,
Management Analyst, Office of the Chief Information Officer.

[FR Doc. 03-3085 Filed 2-6-03; 8:45 am]

BILLING CODE 3510-22-S